DEPARTMENT OF THE INTERIOR

Bureau of Safety and Environmental Enforcement

[Docket ID BSEE-2013-0009; OMB Control Number 1014-NEW; 14XE1700DX EEEE500000 EX1SF0000.DAQ000]

Information Collection Activities: Application for Permit To Modify (APM) and Supporting Documentation; Submitted for Office of Management and Budget (OMB) Review; Comment Request

ACTION: 30-day notice.

SUMMARY: To comply with the Paperwork Reduction Act of 1995 (PRA), we are notifying the public that we have submitted to OMB an information collection request (ICR) for approval of the paperwork requirements in the regulations under Oil and Gas and Sulphur Operations in the Outer Continental Shelf pertaining to an Application for Permit to Modify (APM) and supporting documentation. This notice also provides the public a second opportunity to comment on the revised paperwork burden of these regulatory requirements. This ICR will separate out the hours and non-hour cost burdens associated with APMs from its currently approved IC into its own separate collection; it will also reflect more accurate burden estimates.

DATES: You must submit comments by April 14, 2014.

ADDRESSES: Submit comments by either fax (202) 395-5806 or email (OIRA_Submission@omb.eop.gov) directly to the Office of Information and Regulatory Affairs, OMB, Attention: Desk Officer for the Department of the Interior (1014-NEW). Please provide a copy of your comments to Bureau of Safety and Environmental Enforcement (BSEE) by any of the means below.

• Electronically: go to http://www.regulations.gov. In the Search box, enter BSEE-2013-0009 then click search. Follow the instructions to submit public comments and view all related materials. We will post all comments.

• Email cheryl.blundon@bsee.gov, fax (703) 787-1546, or mail or hand-carry comments to: Department of the Interior; BSEE; Regulations and Standards Branch; ATTN: Cheryl Blundon; 381 Elden Street, HE3313; Herndon, Virginia 20170-4817. Please reference 1014-NEW in your comment and include your name and return address.

FOR FURTHER INFORMATION CONTACT: Cheryl Blundon, Regulations and Standards Branch, (703) 787-1607, to request additional information about this ICR. To see a copy of the entire ICR submitted to OMB, go to http://www.reginfo.gov (select Information Collection Review, Currently Under Review).

SUPPLEMENTARY INFORMATION: Title: 30 CFR 250, Application for Permit to Modify (APM) and all supporting documentation.

Form(s): BSEE-0124.

OMB Control Number: 1014—NEW.

Abstract: The Outer Continental Shelf (OCS) Lands Act, as amended (43 U.S.C. 1331 et seq. and 43 U.S.C. 1801 et seq.), authorizes the Secretary of the Interior to prescribe rules and regulations to administer leasing of mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the Outer Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

In addition to the general authority of OCSLA, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. The Secretary has delegated some of the authority under FOGRMA to BSEE.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, the Bureau of Safety and Environmental Enforcement (BSEE) is required to charge fees for services that provide special benefits or privileges to an identifiable non-Federal recipient above and beyond those which accrue to the public at large. APMs are subject to cost recovery and BSEE regulations specify a service fee for this request.

These authorities and responsibilities are among those delegated to the BSEE. The regulations at 30 CFR part 250 stipulate the various requirements that must be submitted with an APM. The form and the numerous submittals that are included and/or attached to the form are the subject of this collection. Currently, this information is collected under 30 CFR part 250, Subpart D, 1014-0018 (216,211 hour burdens/$2,225,286 non-hour cost burdens; expiration 10/21/2014); but this request will separate out the hours and non-hour cost burdens associated with APMs into its own separate collection so that both industry and BSEE have a better understanding of the complexities associated with all the information that is submitted with this form; and will reflect more accurate burden estimates. Once OMB approves this new collection, the hour and non-hour cost burdens associated with APMs will be removed from the IC 1014-0018.

This request also covers any related Notices to Lessees and Operators (NTLs) that BSEE issues to clarify, supplement, or provide additional guidance on some aspects of our regulations

The current regulations specify the use of form BSEE-0124 (Application for Permit to Modify). We have included a certification statement on the form, to state that false submissions are subject to criminal penalties. Also, we clarified a section of the form by updating the regulatory citations listed in Question #18.

Regulations implementing these responsibilities are delegated to BSEE. Responses are mandatory or are required to obtain or retain a benefit. No questions of a sensitive nature are asked. The BSEE protects information considered proprietary under the Freedom of Information Act (5 U.S.C. 552) and DOI's implementing regulations (43 CFR part 2), and under regulations at 30 CFR 250.197, Data and information to be made available to the public or for limited inspection, 30 CFR Part 252, OCS Oil and Gas Information Program.

The BSEE uses the information to ensure safe well completion, workover, and decommissioning operations and to protect the human, marine, and coastal environment. Among other things, BSEE specifically uses the information to ensure: The well completion, workover, and decommissioning unit is fit for the intended purpose; equipment is maintained in a state of readiness and meets safety standards; each well completion, workover, and decommissioning crew is properly trained and able to promptly perform well-control activities at any time during well operations; and compliance with safety standards. The current regulations provide for safe and proper field or reservoir development, resource evaluation, conservation, protection of correlative rights, safety, and environmental protection. We also review well records to ascertain whether the operations have encountered hydrocarbons or H2S and to ensure that H2S detection equipment, personnel protective equipment, and training of the crew are adequate for safe operations in zones known to contain H2S and zones where the presence of H2S is unknown.

We use the information to determine the conditions of the site to avoid hazards inherent in well completions, workovers, and decommissioning operations. In addition, except for proprietary data, BSEE is required by the OCS Lands Act to make available to the public certain information that is submitted.

The information on the APM form (BSEE-0124) is used to evaluate and approve the adequacy of the equipment, materials, and/or procedures that the lessee or operator plans to use during drilling plan modifications, changes in major drilling equipment, and plugging back. In addition, except for proprietary data, BSEE is required by the OCS Lands Act to make available to the public certain information submitted on BSEE-0124. The information on the form is as follows:

Heading: Identify the well name, lease operator, type of revision and timing of the proposed modifications.

Well at Total Depth/Surface: Identify the unique location (area, block and lease of the proposed activity).

Proposed or Completed Work: Information identifying the specific activity, revision or modification for which approval is requested. This includes specific identification of equipment, engineering, and pressure test data needed by BSEE to ascertain that operations will be conducted in a manner that ensures the safety of personnel and protection of the environment.

Question Information: Responses to questions (a) through (h) serve to ascertain compliance with applicable BSEE regulations and requirements and adherence to good operating practices.

Frequency: On occasion and as required by regulations.

Description of Respondents: Potential respondents comprise OCS Federal oil, gas, or sulphur lessees and/or operators.

Estimated Reporting and Recordkeeping Hour Burden: The estimated annual hour burden for this information collection is a total of 9,770 hours. The following chart details the individual components and estimated hour burdens. In calculating the burdens, we assumed that respondents perform certain requirements in the normal course of their activities. We consider these to be usual and customary and took that into account in estimating the burden.

BILLING CODE 4310-VH-P

BILLING CODE 4310-VH-C

Estimated Reporting and Recordkeeping Non-Hour Cost Burden: We have identified one non-hour cost burden associated with the collection of information for a total of $361,625. The service fee of $125 is required to recover the Federal Government's processing costs of the APM. We have not identified any other non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on December 3, 2013, we published a Federal Register notice (78 FR 72693) announcing that we would submit this ICR to OMB for approval. The notice provided the required 60-day comment period. In addition, § 250.199 provides the OMB Control Number for the information collection requirements imposed by the 30 CFR 250 regulations and forms. The regulation also informs the public that they may comment at any time on the collections of information and provides the address to which they should send comments. We received one set of comments in response to the Federal Register notice. One comment was about how BSEE included a certification statement on the form that false submissions are subject to criminal penalties.” The response to the commenters' input is as follows: The certification statement we added to the form is a standard statement on many government forms. The statement is intended to remind submitters of the penalties for false statements. Anyone who submits a false statement to the government may be subject to civil and criminal penalties even if the statement does not appear on a form. Inclusion of the statement serves to ensure submitters are aware of applicable law. Another comment was the addition of Question #8b—Well Status. Due to the comment, it came to light that industry does not have to input that information on the form—once the form starts to be filled out, the well status information is populated automatically; therefore, we removed Question #8b. The last comment pertains to the estimated reporting and recordkeeping non-hour cost burden. The commenter believes that the $361,625 cost is for additional time and effort to file the form with the suggested changes. That is not the case. BSEE is required to charge fees for services that provide special benefits or privileges to an identifiable non-Federal recipient above and beyond those which accrue to the public at large (see the Independent Offices Appropriations Act paragraph under the Abstract). APMs are subject to a $125 cost recovery and BSEE regulations specify a service fee for this request under 30 CFR 250.125.

Public Availability of Comments: Before including your address, phone number, email address, or other personal identifying information in your comment, you should be aware that your entire comment—including your personal identifying information—may be made publicly available at any time. While you can ask us in your comment to withhold your personal identifying information from public review, we cannot guarantee that we will be able to do so.

Dated: February 19, 2014.
Robert W. Middleton,
Deputy Chief, Office of Offshore Regulatory Programs.

[FR Doc. 2014-05551 Filed 3-12-14; 8:45 am]

BILLING CODE 4310-VH-P